FEDERAL COMMUNICATIONS COMMISSION

[FR ID 42210]

Open Meeting; Correction

AGENCY: Federal Communications Commission.

ACTION: Notice; correction.

SUMMARY: The Federal Communications Commission (FCC) published a document in the Federal Register of August 6, 2021, announcing a meeting on Thursday, August 5, 2021. The agenda has since changed.

FOR FURTHER INFORMATION CONTACT: Jeffrey Riordan, the Office of Media Relations, (202) 418-0500.

SUPPLEMENTARY INFORMATION:

Correction

In the Federal Register of August 6, 2021, in FR Doc. 2021-16868, on page 43237, delete the following agenda items in the chart:

5 | MEDIA | Title: Revisions to Political Programming and Record-Keeping Rules (MB Docket No. 21-293).
|  | Summary: The Commission will consider a Notice of Proposed Rulemaking to update outmoded political programming rules.
6 | WIRELESS TELECOMMUNICATIONS | Title: Review of the Commission's Part 95 Personal Radio Services Rules (WT Docket No. 10-119).
|  | Summary: The Commission will consider a Memorandum Opinion and Order on Reconsideration that would grant three petitions for reconsideration of the Commission's May 2017 Part 95 Personal Radio Services Rules Report and Order.

Dated: August 4, 2021.
Marlene Dortch,
Secretary.

[FR Doc. 2021-17107 Filed 9-2-21; 8:45 am]

BILLING CODE 6712-01-P